DEPARTMENT OF COMMERCE

Foreign-Trade Zones Board

[Order No. 1875]

Reorganization/Expansion of Foreign-Trade Zone 8 Under Alternative Site Framework; Toledo, OH

Pursuant to its authority under the Foreign-Trade Zones Act of June 18, 1934, as amended (19 U.S.C. 81a-81u), the Foreign-Trade Zones Board (the Board) adopts the following Order:

Whereas, the Board adopted the alternative site framework (ASF) (15 CFR Sec. 400.2(c)) as an option for the establishment or reorganization of zones;

Whereas, the Toledo-Lucas County Port Authority, grantee of Foreign-Trade Zone 8, submitted an application to the Board (FTZ Docket B-49-2012, docketed 7/12/2012) for authority to reorganize and expand the zone under the ASF with a service area of Sandusky, Henry, Wood, Lucas and Defiance Counties, Ohio, in and adjacent to the Toledo-Sandusky Customs and Border Protection port of entry, FTZ 8's existing Sites 1, 2, 4 and 5 would be categorized as magnet sites and Sites 7 and 8 as usage-driven sites, Site 3 would be removed from the zone and the grantee proposes an additional subzone (Subzone 8I) under the ASF;

Whereas, notice inviting public comment was given in the Federal Register (77 FR 43048, 7/23/2012) and the application has been processed pursuant to the FTZ Act and the Board's regulations; and,

Whereas, the Board adopts the findings and recommendations of the examiner's report, and finds that the requirements of the FTZ Act and the Board's regulations are satisfied, and that the proposal is in the public interest;

Now, therefore, the Board hereby orders:

The application to reorganize and expand FTZ 8 under the alternative site framework is approved, subject to the FTZ Act and the Board's regulations, including Section 400.13, to the Board's standard 2,000-acre activation limit for the zone, to a five-year ASF sunset provision for magnet sites that would terminate authority for Sites 2, 4 and 5 if not activated by December 31, 2017, and to three-year ASF sunset provisions for subzone/usage-driven sites that would terminate authority for Sites 7 and 8 as well as each site of Subzone 8I if no foreign-status merchandise is admitted for a bona fide customs purpose by December 31, 2015.

Signed at Washington, DC, this 20th day of December 2012.
Paul Piquado,
Assistant Secretary of Commerce for Import Administration, Alternate Chairman, Foreign-Trade Zones Board.

ATTEST:

Andrew McGilvray,
Executive Secretary.

[FR Doc. 2013-00156 Filed 1-7-13; 8:45 am]

BILLING CODE P